FEDERAL COMMUNICATIONS COMMISSION

47 CFR Part 73

[MB Docket No. 13-249; Report No. 3073]

Petition for Reconsideration of Action in Rulemaking Proceeding

AGENCY: Federal Communications Commission.

ACTION: Petition for reconsideration.

SUMMARY: A Petition for Reconsideration (Petition) has been filed in the Commission's rulemaking proceeding by Andrew Jay Schwartzman, on behalf of Prometheus Radio Project.

DATES: Oppositions to the Petition must be filed on or before May 19, 2017. Replies to an opposition must be filed on or before May 30, 2017.

ADDRESSES: Federal Communications Commission, 445 12th Street SW., Washington, DC 20554.

FOR FURTHER INFORMATION CONTACT: Thomas Nessinger, Senior Counsel, Audio Division, Media Bureau, at: (202) 418-2700 or email: Thomas.Nessinger@fcc.gov.

SUPPLEMENTARY INFORMATION: This is a summary of the Commission's document, Report No. 3073, released April 17, 2017. The full text of the Petition is available for viewing and copying at the FCC Reference Information Center, 445 12th Street SW., Room CY-A257, Washington, DC 20554. It also may be accessed online via the Commission's Electronic Comment Filing System at: https://ecfsapi.fcc.gov/file/104101216505007/17-04-10%20Prometheus%20Petition%20for%20Reconsideration%20of%20AMR%20Order%20AS%20FILED.pdf. The Commission will not send a copy of this document pursuant to the Congressional Review Act, 5 U.S.C. 801(a)(1)(A), because this document does not have an impact on any rules of particular applicability.

Subject: In the Matter of Revitalization of the AM Radio Service, FCC 17-14, released by the Commission on February 24, 2017, in MB Docket 13-249, published at 82 FR 13069, March 9, 2017. The document is being published pursuant to 47 CFR 1.429(e). See also 47 CFR 1.4(b)(1) and 1.429(f), (g).

Number of Petitions Filed: 1.

Federal Communications Commission.
Marlene H. Dortch,
Secretary.

[FR Doc. 2017-08953 Filed 5-3-17; 8:45 am]

BILLING CODE 6712-01-P